OFFICE OF THE UNITED STATES TRADE REPRESENTATIVE

Request for Comments: Trade Strategy to Combat Forced Labor

AGENCY: Office of the United States Trade Representative (USTR).

ACTION: Notice and request for comments.

SUMMARY: The Office of the United States Trade Representative (USTR) is coordinating with all relevant United States federal agencies to develop a focused trade strategy to combat forced labor. The strategy will identify priorities and establish an action plan for utilizing existing and potential new trade tools to combat forced labor in traded goods and services. USTR invites public comments to inform the development of the strategy.

DATES: The deadline for the submission of written comments is August 5, 2022.

ADDRESSES: USTR strongly prefers electronic submissions made through the Federal eRulemaking Portal: https://www.regulations.gov (Regulations.gov), using Docket Number USTR-2022-0006. Follow the instructions for submitting comments in `Requirements for Submissions' below. For alternatives to on-line submissions, please contact Jennifer Oetken, Director for Labor Affairs, in advance of the deadline at Jennifer.L.Oetken@ustr.eop.gov or (202) 395-2870.

FOR FURTHER INFORMATION CONTACT: Jennifer Oetken, Director for Labor Affairs, at Jennifer.L.Oetken@ustr.eop.gov or (202) 395-2870.

SUPPLEMENTARY INFORMATION:

I. Background

On January 25, 2022, U.S. Trade Representative Katherine Tai announced that USTR would develop the first-ever trade strategy to combat forced labor. In developing the strategy, USTR is conducting an interagency review across the U.S. Government through the Trade Policy Staff Committee's (TPSC) Subcommittee on Trade, Forced Labor, and Child Labor of existing trade policies and tools used to combat forced labor, including forced child labor, to determine areas that may need strengthening and gaps that may need to be filled. USTR will use this analysis to establish objectives, priorities, new tools, and key action items to advance development of the strategy. The process is inclusive to maximize input from stakeholders, including labor organizations, civil society, survivors, and the private sector.

II. Public Comment

USTR invites interested parties to submit comments to assist in the development of the forced labor trade strategy. In submitting comments, parties are invited to consider the following questions.

• What actions could the U.S. Government pursue with like-minded trade partners and allies to combat forced labor as an unfair trade practice?

• How can the U.S. Government bolster the forced labor components of trade agreements and trade preference programs to have greater effect?

• What new and innovative trade tools can the U.S. Government develop and utilize to advance efforts to combat forced labor in traded goods and services?

• How can the U.S. Government make the development of trade policy on forced labor a more inclusive process?

• Do you have additional recommendations for monitoring, tracing, or eliminating forced labor in traded goods and services in supply chains?

USTR must receive written comments no later than August 5, 2022. USTR requests that small businesses (generally defined by the Small Business Administration as firms with fewer than 500 employees), or organizations representing small business members, self-identify in their comment, so USTR will be aware of issues of particular interest to small businesses.

III. Requirements for Submissions

You must submit comments by the August 5, 2022 deadline. You must make all submissions in English via Regulations.gov, using Docket Number USTR-2022-0006. USTR prefers submissions in Microsoft Word (.doc) or Adobe Acrobat (.pdf). If the submission is in an application other than those two, please indicate the name of the application in the `type comment' field. USTR will not accept hand-delivered submissions.

To make a submission using Regulations.gov, enter Docket Number USTR-2022-0006 in the `search for' field on the home page and click `search.' The site will provide a search results page listing all documents associated with this docket. Find a reference to this notice by selecting `notice' under `document type' in the `refine documents results' section on the left side of the screen and click on the link entitled `comment.' The Regulations.gov website offers the option of providing comments by filling in a `comment' field or by attaching a document using the `attach files' field. USTR prefers that you provide submissions in an attached document and note `see attached' in the `comment' field on the online submission form. At the beginning of the submission, or on the first page (if an attachment) include the following: `Trade Strategy to Combat Forced Labor.' Include any cover letters, exhibits, annexes, or other attachments to the submission in the same file as the submission itself, and not as separate files.

For any comments submitted electronically that contain business confidential information (BCI), the file name of the business confidential version should begin with the characters `BCI.' Clearly mark any page containing BCI `BUSINESS CONFIDENTIAL' on the top of that page. Filers of submissions containing BCI also must submit a public version of their comments. The file name of the public version should begin with the character `P.' Follow the `BCI' and `P' with the name of the person or entity submitting the comments. Filers submitting comments containing no BCI should name their file using the name of the person or entity submitting the comments.

You will receive a tracking number upon completion of the submission procedure at Regulations.gov. The tracking number is confirmation that Regulations.gov received the submission. Keep the confirmation for your records. USTR is not able to provide technical assistance for Regulations.gov. USTR may not consider documents that you do not submit in accordance with these instructions.

If you are unable to provide submissions as requested, Jennifer Oetken, Director for Labor Affairs, in advance of the deadline at Jennifer.L.Oetken@ustr.eop.gov or (202) 395-2870. to arrange for an alternative method of transmission.

USTR will place comments in the docket for public inspection, except BCI. General information concerning USTR is available at www.ustr.gov.

Joshua Kagan,
Assistant U.S. Trade Representative for Labor Affairs, Office of the United States Trade Representative.

[FR Doc. 2022-14355 Filed 7-5-22; 8:45 am]

BILLING CODE 3290-F2-P